DEPARTMENT OF LABOR

Employment and Training Administration

[NAFTA-05625]

Alcatel USA Marketing, Inc., Andover, MA; Notice of Negative Determination Regarding Application for Reconsideration

By application dated January 28, 2002, the workers requested administrative reconsideration of the Department's negative determination regarding eligibility to apply for North American Free Trade Agreement-Transitional Adjustment Assistance (NAFTA-TAA), applicable to workers and former workers of the subject firm. The denial notice was signed on December 31, 2001, and was published in the Federal Register on January 11, 2002 (67 FR 1511).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The NAFTA-TAA petition, filed on behalf of workers at Alcatel USA Marketing, Inc., Andover, Massachusetts engaged in activities related to the engineering and development of a network switch for computers was denied because the workers of the subject firm did not produce an article within the meaning of Section 250(a) of the Trade Act, as amended.

The petitioners allege that the firm did not end the development of the 7420 IP Edge Router before the product was manufactured. They further indicated that the router shipped from Andover to outside sources was long before the decision was made to transfer the program to Canada. They further indicated that the program was ultimately canceled. The petitioners attached statements from various workers as testimony.

Information supplied during initial investigation show that workers were engaged in activities related to the engineering and development of a computer network switch, referred to as the 7420 IP Edge Router. ALCATEL USA decided to consolidate some of their North American facilities, including transferring the engineering and development of the 7420 IP Edge Router to Kanata, Canada. After further evaluation, the company decided to completely discontinue development of the 7420 IP Edge Router. The product was never fully developed. The Andover facility shipped the 7420 IP Edge Router to internal and outside sources for beta testing only. The router was never produced for sale to outside sources. The subject plant workers engaged in activities related to engineering and development of the 7420 IP EDGE ROUTER at the subject firm did not produce an article within the meaning of Section 250(a) of the Trade Act, as amended. Therefore, the shifts in functions performed at the subject plant related to the 7420 IP Edge Router to Canada are irrelevant.

Conclusion

After review of the application for reconsideration and investigative findings, I conclude that there has been no error or misinterpretation of the law or of the facts which would justify reconsideration of the Department of Labor's prior decisions. Accordingly, the application is denied.

Signed at Washington, DC, this day of April, 2002.
Edward A. Tomchick,
Director, Division of Trade Adjustment Assistance.

[FR Doc. 02-10054 Filed 4-23-02; 8:45 am]

BILLING CODE 4510-30-M